DEPARTMENT OF HEALTH AND HUMAN SERVICES

Centers for Medicare & Medicaid Services

[Document Identifiers: CMS-10203 and CMS-10346]

Agency Information Collection Activities: Submission for OMB Review; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected; and the use of automated collection techniques or other forms of information technology to minimize the information collection burden.

DATES: Comments on the collection(s) of information must be received by the OMB desk officer by October 5, 2017.

ADDRESSES: When commenting on the proposed information collections, please reference the document identifier or OMB control number. To be assured consideration, comments and recommendations must be received by the OMB desk officer via one of the following transmissions:

OMB, Office of Information and Regulatory Affairs

Attention: CMS Desk Officer

Fax Number: (202) 395-5806 OR

Email: OIRA_submission@omb.eop.gov.

To obtain copies of a supporting statement and any related forms for the proposed collection(s) summarized in this notice, you may make your request using one of following:

1. Access CMS' Web site address at Web site address at https://www.cms.gov/Regulations-and-Guidance/Legislation/PaperworkReductionActof1995/PRA-Listing.html.

2. Email your request, including your address, phone number, OMB number, and CMS document identifier, to Paperwork@cms.hhs.gov.

3. Call the Reports Clearance Office at (410) 786-1326.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of a currently approved collection; Title of Information Collection: Medicare Health Outcomes Survey (HOS); Use: The collection is necessary to hold Medicare managed care contracts accountable for the quality of care they deliver to beneficiaries. This reporting requirement allows us to obtain the information necessary for proper oversight of the Medicare Advantage program. It is critical to our mission that we collect and disseminate valid and reliable information that can be used to improve quality of care through identification of quality improvement opportunities, assist us in carrying out our oversight responsibilities, and help beneficiaries make an informed choice among health plans. Form Number: CMS-10203 (OMB control number: 0938-0701); Frequency: Yearly; Affected Public: Individuals and households; Number of Respondents: 739,959; Total Annual Responses: 554,895; Total Annual Hours: 183,115. (For policy questions regarding this collection contact Kimberly DeMichele at 410-786-4286.)

2. Type of Information Collection Request: Reinstatement with change of a previously approved information collection; Title of Information Collection: Appeals of Quality Bonus Payment Determinations; Use: Section 1853(o) of the Social Security Act requires us to make Quality Bonus Payments (QBPs) to Medicare Advantage (MA) organizations that achieve performance rating scores of at least 4 stars under a five star rating system. MA organizations have 10 calendar days from the date of CMS' release of its QBP determinations to request a technical report from CMS explaining the development of their QBP status. The technical report is provided in writing by electronic mail to the MA organization. If, after reviewing the technical report, the MA organization believes that CMS was incorrect in its QBP determination, within 10 calendar days the MA organization may request an appeal to be conducted by a hearing officer designated by CMS. The hearing officer's decision is final and binding on both the MA organization and CMS. The hearing officer is required to issue his/her decision on or before May 15 of the year preceding the year in which the contract for which the QBP to be applied will be offered. Form Number: CMS-10346 (OMB control number: 0938-1129); Frequency: Yearly; Affected Public: Private sector (Business or other for-profits and Not-for-profit institutions); Number of Respondents: 500; Total Annual Responses: 20; Total Annual Hours: 160. (For policy questions regarding this collection contact Sarah Gaillot at 410-786-4637).

Dated: August 30, 2017.
William N. Parham, III,
Director, Paperwork Reduction Staff, Office of Strategic Operations and Regulatory Affairs.

[FR Doc. 2017-18740 Filed 9-1-17; 8:45 am]

BILLING CODE 4120-01-P